DEPARTMENT OF THE INTERIOR

National Park Service

[NPS-WASO-NAGPRA-NPS0034804; PPWOCRADN0-PCU00RP14.R50000]

Notice of Inventory Completion: Beloit College, Logan Museum of Anthropology, Beloit, WI

AGENCY: National Park Service, Interior.

ACTION: Notice.

SUMMARY: Beloit College, Logan Museum of Anthropology has completed an inventory of human remains and associated funerary objects in consultation with the appropriate Indian Tribes or Native Hawaiian organizations and has determined that there is a cultural affiliation between the human remains and associated funerary objects, and present-day Indian Tribes or Native Hawaiian organizations. Lineal descendants or representatives of any Indian Tribe or Native Hawaiian organization not identified in this notice that wish to request transfer of control of these human remains and associated funerary objects should submit a written request to Beloit College, Logan Museum of Anthropology. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Beloit College, Logan Museum of Anthropology at the address in this notice by December 7, 2022.

FOR FURTHER INFORMATION CONTACT: Nicolette B. Meister, Beloit College, Logan Museum of Anthropology, 700 College Street, Beloit, WI 53511, telephone (608) 363-2305, email meistern@beloit.edu.

SUPPLEMENTARY INFORMATION: Notice is here given in accordance with the Native American Graves Protection and Repatriation Act (NAGPRA), 25 U.S.C. 3003, of the completion of an inventory of human remains and associated funerary objects under the control of Beloit College, Logan Museum of Anthropology, Beloit, WI. The human remains and associated funerary objects were removed from Sacramento County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Beloit College, Logan Museum of Anthropology professional staff in consultation with representatives of the Buena Vista Rancheria of Me-Wuk Indians of California; Federated Indians of Graton Rancheria, California; Greenville Rancheria (previously listed as Greenville Rancheria of Maidu Indians of California); Ione Band of Miwok Indians of California; Pechanga Band of Indians (previously listed as Pechanga Band of Luiseno Mission Indians of the Pechanga Reservation, California); Shingle Springs Band of Miwok Indians, Shingle Springs Rancheria (Verona Tract), California; Tuolumne Band of Me-Wuk Indians of the Tuolumne Rancheria of California; United Auburn Indian Community of the Auburn Rancheria of California; Wilton Rancheria, California; and the Yocha Dehe Wintun Nation, California (previously listed as Rumsey Indian Rancheria of Wintun Indians of California) (hereafter referred to as “The Consulted Tribes”).

History and Description of the Remains

On an unknown date, human remains representing, at minimum, three individuals were removed from “likely” Elliot Mound, Sacramento County, CA. The human remains (31121; 31127) and associated funerary objects were obtained by Albert Green Heath (1888-1953). Heath was an avid collector and dealer of Native American items who traveled throughout North America buying, trading, and selling Native American items. Heath's large collection came to be known as the Museum of Amerind Arts or the Museum of American Indian Art. In 1955, Beloit College, Logan Museum of Anthropology purchased the Albert Green Heath collection. The human remains belong to three individuals of undetermined age and sex. No known individuals were identified. The 29 associated funerary objects are one lot of glass beads (31122); three bone pipes (31123.1; 31123.2; 31123.3); two stone beads (31124.1; 31124.2); one bone fish gorge (31125); four bone whistles or flutes (31128.1; 31128.2; 31128.3; 31128.4); one lot of bone beads or tubes (31129.1; 31129.2; 31129.3; 31129.4; 31129.5; 31129.7; 31129.8); five bone awls (31130.1; 31130.2; 31130.3; 31130.4; 31130.5); eight bone pendants (31131.1; 31131.2; 31131.3; 31131.4; 31131.5; 31131.6; 31131.7; 31131.8); two obsidian projectile points (31132.1; 31132.2); one bone bead (31206); and one lot of strung shell beads (with a stone bead added on each end of the string (31126) and a bone bead or tube (31129.6)). This last object is currently missing from the museum's collections.

Determinations Made by Beloit College, Logan Museum of Anthropology

Officials of Beloit College, Logan Museum of Anthropology have determined that:

• Pursuant to 25 U.S.C. 3001(9), the human remains described in this notice represent the physical remains of three individuals of Native American ancestry.

• Pursuant to 25 U.S.C. 3001(3)(A), the 29 objects described in this notice are reasonably believed to have been placed with or near individual human remains at the time of death or later as part of the death rite or ceremony.

• Pursuant to 25 U.S.C. 3001(2), there is a relationship of shared group identity that can be reasonably traced between the Native American human remains and associated funerary objects and the Bridgeport Indian Colony (previously listed as Bridgeport Paiute Indian Colony of California); Buena Vista Rancheria of Me-Wuk Indians of California; California Valley Miwok Tribe, California; Cher-Ae Heights Indian Community of the Trinidad Rancheria, California; Chicken Ranch Rancheria of Me-Wuk Indians of California; Federated Indians of Graton Rancheria, California; Ione Band of Miwok Indians of California; Jackson Band of Miwuk Indians (previously listed as Jackson Rancheria of Me-Wuk Indians of California); Middletown Rancheria of Pomo Indians of California; Shingle Springs Band of Miwok Indians, Shingle Springs Rancheria (Verona Tract), California; Tuolumne Band of Me-Wuk Indians of the Tuolumne Rancheria of California; United Auburn Indian Community of the Auburn Rancheria of California; and the Wilton Rancheria, California (hereafter referred to as “The Tribes”).

Additional Requestors and Disposition

Lineal descendants or representatives of any Indian Tribe or Native Hawaiian organization not identified in this notice that wish to request transfer of control of these human remains and associated funerary objects should submit a written request with information in support of the request to Nicolette B. Meister, Beloit College, Logan Museum of Anthropology, 700 College Street, Beloit, WI 53511, telephone (608) 363-2305, email meistern@beloit.edu, by December 7, 2022. After that date, if no additional requestors have come forward, transfer of control of the human remains and associated funerary objects to The Tribes may proceed.

Beloit College, Logan Museum of Anthropology is responsible for notifying The Consulted Tribes and The Tribes that this notice has been published.

Dated: October 26, 2022.
Melanie O'Brien,
Manager, National NAGPRA Program.

[FR Doc. 2022-24224 Filed 11-4-22; 8:45 am]

BILLING CODE 4312-52-P